ENVIRONMENTAL PROTECTION AGENCY

[FRL OP-OFA-070]

Environmental Impact Statements; Notice of Availability

Responsible Agency: Office of Federal Activities, General Information 202-564-5632 or https://www.epa.gov/nepa.

Weekly receipt of Environmental Impact Statements (EIS)

Filed May 8, 2023 10 a.m. EST Through May 15, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230064, Final, USAF, GA, Moody Air Force Base Comprehensive Airspace Initiative, Review Period Ends: 06/20/2023, Contact: Grace Keesling 210-925-4534.

EIS No. 20230065, Draft Supplement, FRA, DC, Washington Union Station Expansion Project, Comment Period Ends: 07/06/2023, Contact: Amanda Murphy 202-339-7231.

EIS No. 20230066, Draft, BOEM, NJ, Atlantic Shores Offshore Wind South, Comment Period Ends: 07/03/2023, Contact: Jessica Stromberg 703-787-1722.

EIS No. 20230067, Draft, TVA, TN, Kingston Fossil Plant Retirement, Comment Period Ends: 07/03/2023, Contact: Chevy Williams 423-751-7316.

Amended Notice

EIS No. 20230059, Draft Supplement, BLM, WY, Buffalo Field Office Draft Supplemental Environmental Impact Statement and Potential Resource Management Plan Amendment, Comment Period Ends: 08/03/2023, Contact: Tom Bills 307-684-1131.

Revision to FR Notice Published 05/05/2023; Extending the Comment Period from 06/20/2023 to 08/03/2023.

Dated: May 15, 2023.
Nancy Abrams,
Associate Director, Office of Federal Activities.

[FR Doc. 2023-10776 Filed 5-18-23; 8:45 am]

BILLING CODE 6560-50-P